DEPARTMENT OF LABOR

Mine Safety and Health Administration

Petition for Modification of Application of Existing Mandatory Safety Standards

AGENCY: Mine Safety and Health Administration, Labor.

ACTION: Notice.

SUMMARY: This notice is a summary of a petition for modification submitted to the Mine Safety and Health Administration (MSHA) by the party listed below.

DATES: All comments on the petition must be received by MSHA's Office of Standards, Regulations, and Variances on or before April 24, 2023.

ADDRESSES: You may submit comments identified by Docket No. MSHA-2023-0002 by any of the following methods:

1. Federal eRulemaking Portal: https://www.regulations.gov. Follow the instructions for submitting comments for MSHA-2023-0002.

2. Fax: 202-693-9441.

3. Email: petitioncomments@dol.gov.

4. Regular Mail or Hand Delivery: MSHA, Office of Standards, Regulations, and Variances, 201 12th Street South, Suite 4E401, Arlington, Virginia 22202-5452.

Attention: S. Aromie Noe, Director, Office of Standards, Regulations, and Variances. Persons delivering documents are required to check in at the receptionist's desk in Suite 4E401. Individuals may inspect copies of the petition and comments during normal business hours at the address listed above. Before visiting MSHA in person, call 202-693-9455 to make an appointment, in keeping with the Department of Labor's COVID-19 policy. Special health precautions may be required.

FOR FURTHER INFORMATION CONTACT: S. Aromie Noe, Office of Standards, Regulations, and Variances at 202-693-9440 (voice), Petitionsformodification@dol.gov (email), or 202-693-9441 (fax). [These are not toll-free numbers.]

SUPPLEMENTARY INFORMATION: Section 101(c) of the Federal Mine Safety and Health Act of 1977 and Title 30 of the Code of Federal Regulations (CFR) part 44 govern the application, processing, and disposition of petitions for modification.

I. Background

Section 101(c) of the Federal Mine Safety and Health Act of 1977 (Mine Act) allows the mine operator or representative of miners to file a petition to modify the application of any mandatory safety standard to a coal or other mine if the Secretary of Labor determines that:

1. An alternative method of achieving the result of such standard exists which will at all times guarantee no less than the same measure of protection afforded the miners of such mine by such standard; or

2. The application of such standard to such mine will result in a diminution of safety to the miners in such mine.

In addition, sections 44.10 and 44.11 of 30 CFR establish the requirements for filing petitions for modification.

II. Petition for Modification

Docket Number: M-2022-035-C

Petitioner: Ramaco Resources, LCC, P.O. Box 219, Verner, West Virginia 25650.

Mines: Michael Powellton Deep Mine, MSHA ID No. 46-09602, located in Logan County, West Virginia.

Crucible Deep Mine, MSHA ID No. 46-09614, located in Logan County, West Virginia.

Berwind Deep Mine, MSHA ID No. 46-09533, located in McDowell County, West Virginia.

Triad No. 2, MSHA ID No. 46-09628, located in McDowell County, West Virginia.

Laurel Fork, MSHA ID No. 46-09084, located in McDowell County, West Virginia.

Regulation Affected: 30 CFR 75.1002(a), Installation of electric equipment and conductors; permissibility.

Modification Request: The petitioner requests a modification of 30 CFR 75.1002(a) to permit the use of battery-powered non-permissible surveying equipment, including, but not limited to, portable battery operated mine transits, total station surveying equipment, distance meters and data loggers within 150 feet of pillar workings or longwall faces.

The petitioner states that:

(a) To comply with the requirements of 30 CFR 75.372 and 75.1200, use of the most practical and accurate surveying equipment is necessary.

(b) Accurate surveying is critical to the safety of the miners.

(c) Underground mining by its nature, size and complexity of mine plans requires that accurate and precise measurements be completed in a prompt and efficient manner.

The petitioner proposes the following alternative method:

(a) Using the following total station and theodolite and similar low voltage battery-operated total stations and theodolites with an ingress protection (IP) rating of 66 or greater in or within 150 feet of pillar workings or longwall faces subject to the conditions of the Proposed Decision and Order (PDO):

(1) Sokkia—CX-105LN

(b)The equipment allowed under the PDO is low voltage or batterypowered, non-permissible total stations and theodolites with an IP rating of 66 or greater.

(c) The operator shall maintain a logbook for electronic surveying equipment with the equipment, in the location where mine record books are kept, or in the location where the surveying record books are kept. The logbook shall contain the date of manufacture and/or purchase date of each piece of electronic surveying equipment. The logbook shall be made available to MSHA upon request.

(d) All non-permissible electronic surveying equipment to be used within 150 feet of pillar workings or longwall faces shall be examined by the person to operate the equipment prior to taking the equipment underground to ensure the equipment is maintained in a safe operating condition. These examinations shall include:

(1) Checking the instrument for any physical damage and the integrity of the case;

(2) Removing the battery and inspecting for corrosion;

(3) Inspecting the contact points to ensure a secure connection to the battery;

(4) Reinserting the battery and powering up and shutting down to ensure proper connections; and

(5) Checking the battery compartment cover or battery attachment to ensure that it is securely fastened.

(e) The results of this examination shall be recorded in the logbook.

(f) The equipment shall be examined at least weekly by a qualified person as defined in 30 CFR 75.153; the examination results shall be recorded weekly in the equipment's logbook. Examination entries in the logbook may be expunged after 1 year.

(g) The operator shall ensure that all non-permissible electronic surveying equipment is serviced according to the manufacturer's recommendations. Dates of service shall be recorded in the equipment's logbook and shall include a description of the work performed.

(h) Non-permissible surveying equipment that shall be used within 150 feet of pillar workings or longwall faces shall not be put into service until MSHA has initially inspected the equipment and determined that it is in compliance with all the terms and conditions of the PDO.

(i) Before setting up and energizing non-permissible electronic equipment within 150 feet of the pillar workings or longwall faces, the surveyor(s) shall conduct a visual examination of the immediate area for evidence that the area appears to be sufficiently rock dusted and for the presence of accumulated float coal dust. If the rock dusting appears insufficient or the presence of accumulated float coal dust is observed, the equipment may not be energized until sufficient rock dust has been applied and/or the accumulations of float coal dust have been cleaned up. If non-permissible electronic surveying equipment is to be used in an area that has not been rock dusted within 40 feet of a working face where a continuous mining machine is used to extract coal, the area shall be rock dusted prior to energizing surveying equipment.

(j) All hand-held methane detectors shall be MSHA approved and maintained in permissible and proper operating condition as defined by 30 CFR 75.320. All methane detectors shall provide visual and audible warnings when methane is detected at or above 1.0 percent.

(k) Prior to energizing any of the non-permissible surveying equipment within 150 feet of pillar workings or longwall faces, methane tests shall be made in accordance with 30 CFR 75.323(a). Non-permissible surveying equipment shall not be used within 150 feet of pillar workings or the longwall face when production is occurring.

(l) All areas to be surveyed shall be pre-shifted according to 30 CFR 75.360 prior to surveying. If the area was not pre-shifted, a supplemental examination according to 30 CFR 75.361 shall be performed before any non-certified person enters the area. If the area has been examined according to 30 CFR 75.361, additional examination is not required.

(m) A qualified person as defined in 30 CFR 75.151 shall continuously monitor for methane immediately before and during the use of non-permissible surveying equipment within 150 feet of pillar workings or longwall faces. A second person in the surveying crew, if there are two people in the crew, shall also continuously monitor for methane. That person shall either be a qualified person as defined in 30 CFR 75.151 or be in the process of being trained to be a qualified person but has yet to “make such tests for a period of 6 months” as required by 30 CFR 75.151. Upon completion of the 6-month training period the second person on the surveying crew shall become qualified in order to continue on the surveying crew. If the surveying crew consists of one person, rather than two, such person shall monitor for methane with two separate devices.

(n) Batteries contained in the surveying equipment shall be changed out or charged more than 150 feet away from pillar workings or the longwall face. Replacement batteries for the electronic surveying equipment shall be carried only in the compartment provided for a spare battery in the electronic equipment carrying case. Before each shift of surveying, all batteries for the electronic surveying equipment shall be charged sufficiently so that they are not expected to be replaced on that shift.

(o) When using non-permissible electronic surveying equipment within 150 feet of pillar workings or longwall faces, the surveyor shall confirm by measurement or by inquiry of the person in charge of the section, that the air quantity on the section, on that shift, in the last open crosscut is at least the minimum quantity that is required by the mine's ventilation plan.

(p) Personnel engaged in the use of surveying equipment shall be properly trained to recognize the hazards and limitations associated with the use of surveying equipment in areas where methane could be present.

(q) All members of the surveying crew shall receive specific training on the terms and conditions of the PDO before using non-permissible electronic equipment within 150 feet of pillar workings or longwall faces. A record of the training shall be kept with the other training records.

(r) Within 60 days after the PDO becomes final, the operator shall submit proposed revisions for its approved 30 CFR part 48 training plans to the Coal Mine Safety and Health District Manager. These proposed revisions shall specify initial and refresher training regarding the terms and conditions stated in the PDO. When training is conducted on the terms and conditions of the PDO, an MSHA Certificate of Training (Form 5000-23) shall be completed. Comments shall be included on the Certificate of Training indicating that surveying training was completed.

(s) The operator shall replace or retire from service any electronic surveying instrument that was acquired prior to December 31, 2004, within one year of the PDO becoming final. Within 3 years of the date that the PDO becomes final, the operator shall replace or retire from service any theodolite that was acquired more than 5 years prior to the date that the PDO became final or any total station or the electronic surveying equipment identified in the PDO acquired more than 10 years prior to the date that the PDO became final. After 5 years, the operator shall maintain a cycle of purchasing new electronic surveying equipment whereby theodolites shall be no older than 5 years from the date of manufacture and total stations and other electronic surveying equipment shall be no older than 10 years from the date of manufacture.

(t) The operator is responsible for ensuring that all surveying contractors hired by the operator are using electronic equipment in accordance with the requirements of the PDO. The conditions of use in the PDO shall apply to all non-permissible electronic surveying equipment used within 150 feet of pillar workings or longwall faces regardless of whether the equipment is used by the operator or by an independent contractor.

(u) Non-permissible surveying equipment may be used when production is occurring, subject to these conditions:

(1) On a mechanized mining unit (MMU) where production is occurring, non-permissible electronic surveying equipment shall not be used downwind of the discharge point of any face ventilation controls, such as tubing (including controls such as “baloney skins”) or curtains.

(2) Production may continue while non-permissible electronic surveying equipment is used if the surveying equipment is used in a separate split of air from where production is occurring.

(3) Non-permissible surveying equipment shall not be used in a split of air ventilating an MMU if any ventilation controls will be disrupted during such surveying. Disruption of ventilation controls means any change to the mine's ventilation system that causes the ventilation system not to function in accordance with the mine's approved ventilation plans.

(4) If, while surveying, a surveyor must disrupt ventilation, the surveyor shall cease surveying and communicate to the section foreman that the ventilation must be disrupted. Production shall stop while ventilation is disrupted. Ventilation control shall be reestablished immediately after the disruption is no longer necessary. Production shall only resume after all ventilation controls are reestablished and are in compliance with approved ventilation or other plans and other applicable laws, standards, or regulations.

(5) Any disruption in ventilation shall be recorded in the logbook required by the PDO. The logbook shall include a description of the nature of the disruption, the location of the disruption, the date and time of the disruption, the date and time the surveyor communicated the disruption to the section foreman, the date and time production ceased, the date and time ventilation was reestablished, and the date and time production resumed.

(6) All surveyors, section foreman, section crew members and other personnel who will be involved with or affected by surveying operations shall receive training in accordance with 30 CFR 48.7 on the requirements of the PDO within 60 days of the date the PDO becomes final. Such training shall be completed before any non-permissible surveying equipment can be used while production is occurring. The operator shall keep a record of such training and provide such record to MSHA upon request.

(7) The operator shall provide annual retraining to all personnel who will be involved with or affected by surveying operations in accordance with 30 CFR 48.8. The operator shall train new miners on the requirements of the PDO in accordance with 30 CFR 48.6. The operator shall keep a record of such training and provide such record to MSHA upon request.

The petitioner asserts that the alternative method proposed will at all times guarantee no less than the same measure of protection afforded the miners under the mandatory standard.

Song-ae Aromie Noe,
Director, Office of Standards, Regulations, and Variances.

[FR Doc. 2023-06070 Filed 3-23-23; 8:45 am]

BILLING CODE 4520-43-P